DEPARTMENT OF THE INTERIOR

Bureau of Land Management

[223 LLUTG02000 L12200000.PM00000]

Call for Nominations for the San Rafael Swell Recreation Area Advisory Council

AGENCY: Bureau of Land Management, Interior.

ACTION: Notice.

SUMMARY: The purpose of this notice is to request public nominations for the Bureau of Land Management's (BLM) San Rafael Swell Recreation Area Advisory Council (Council) to fill an existing vacancy as well as two member terms that are scheduled to expire.

DATES: All nominations must be received no later than August 18, 2022.

ADDRESSES: Nominations and completed applications should be sent to Lance Porter, Green River District Manager, BLM Green River District Office, 170 South 500 East, Vernal, UT 84078, Attention: San Rafael Swell Advisory Council Nominations, or email l50porte@blm.gov with the subject line “San Rafael Swell Advisory Council Nominations.” The Green River District Office will accept public nominations for 30 days from the date this notice is posted.

FOR FURTHER INFORMATION CONTACT: Angela Hawkins, Public Affairs Specialist, BLM Green River District Office, 170 South 500 East, Vernal, UT 84078; phone: (435) 781-2774; email: ahawkins@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act, Section 1223, directed the Secretary of the Interior to establish a seven-member citizen-based advisory council that is regulated by the Federal Advisory Committee Act (5 U.S.C. Appendix 2) and Section 309 of the Federal Land Policy and Management Act. The BLM rules governing advisory committees are found at 43 CFR 1784.

The Council advises the Secretary with respect to the preparation and implementation of the management plan for the San Rafael Swell Recreation Area. Congress created the San Rafael Swell Recreation Area to provide for the protection, conservation, and enhancement of the recreational, cultural, natural, scenic, wildlife, ecological, historical, and educational resources of the area. The San Rafael Swell Recreation Area features magnificent badlands of brightly colored and wildly eroded sandstone formations, deep canyons, and giant plates of stone tilted upright through massive geologic upheaval and features numerous recreational experiences including hiking, biking, four-wheel driving, horseback, canyoneering, and river running. Council duties and responsibilities are solely advisory in nature.

The Council is seeking nominations in the following categories:

(1) An elected leader of a federally recognized Tribe that has significant cultural or historical connections to, and expertise in, the landscape, archeological sites, or cultural sites within the County;

(2) A representative of motorized recreational users; and

(3) A representative of non-motorized recreational users.

Members will be appointed to the Council to serve 3-year terms.

Nominating Potential Members: Nomination forms may be obtained from the BLM Green River District Office (address listed above) or https://www.blm.gov/get-involved/resource-advisory-council/near-you/utah/San-Rafael-Swell-RAC. All nominations must include a completed Resource Advisory Council application (OMB Control No. 1004-0204) https://www.blm.gov/sites/blm.gov/files/1120-019_0.pdf, letters of reference from the represented interests or organizations, and any other information that speaks to the candidate's qualifications.

The specific category the nominee would be representing should be identified in the letter of nomination and on the application form.

Members of the Council serve without compensation. However, while away from their homes or regular places of business, Council members engaged in Council business may be allowed travel expenses, including per diem in lieu of subsistence, as authorized by 5 U.S.C. 5703, in the same manner as persons employed intermittently in Federal Government service.

The Council will meet approximately two to four times annually, and at such other times as designated by the Designated Federal Officer.

(Authority: 43 CFR 1784.4-1)

Gregory Sheehan,
State Director.

[FR Doc. 2022-15386 Filed 7-18-22; 8:45 am]

BILLING CODE 4310-DQ-P